DEPARTMENT OF COMMERCE

National Institute of Standards and Technology

[Docket No.: 041220354-5020-02]

Small Grant Programs, Precision Measurement Grants Program, Summer Undergraduate Research Fellowship (SURF) Programs; Amendment

AGENCY: National Institute of Standards and Technology, Commerce.

ACTION: Notice; amendment.

SUMMARY: The National Institute of Standards and Technology (NIST) published a document in the Federal Register on January 5, 2005, announcing the availability of funds for Small Grants Programs. On December 27, 2004, NIST published two documents in the Federal Register, one announcing the availability of funds for the Summer Undergraduate Research Fellowships (SURF) Programs, and the other announcing the availability of funds for the Precision Measurement Grants Program. This document amends the Supplementary Information for each notice to update the citation to the Department of Commerce Pre-Award Notification Requirements for Grants and Cooperative Agreements printed in the notices.

FOR FURTHER INFORMATION CONTACT: For complete information about these programs and instructions for applying by paper or electronically, read the Federal Funding Opportunity (FFO) Notices at http://www.grants.gov. A paper copy of the FFO notices may be obtained by calling (301) 975-6328.

Grants Administration questions about these programs should be addressed to: Grants and Agreements Management Division, National Institute of Standards and Technology; 100 Bureau Drive, Stop 3580, Gaithersburg, MD 20899-3580; Tel: (301) 975-6328. For assistance with using Grants.gov contact support@grants.gov.

For the Precision Measurement Grants Program, technical questions should be addressed to: Dr. Peter J. Mohr, Manager, NIST Precision Measurement Grants Program, National Institute of Standards and Technology, 100 Bureau Drive, Stop 8420, Gaithersburg, MD 20899-8420, Tel: (301) 975-3217, e-mail: mohr@nist.gov.

For the SURF Gaithersburg Programs, program questions should be addressed to Ms. Anita Sweigert, Administrative Coordinator, 100 Bureau Drive, Stop 8400, Gaithersburg, MD 20899-8400, Tel: (301) 975-4200, e-mail: anita.sweigert@nist.gov.

For the SURF Boulder Programs, program questions should be addressed to Ms. Phyllis Wright, Administrative Coordinator, National Institute of Standards and Technology, 325 Broadway, Mail Stop 104, Boulder, CO 80305-3328, Tel: (303) 497-3244, e-mail: pkwright@boulder.nist.gov.

For the EEEL Grants Program, program questions should be addressed to Sheilda Bryner, Electronics and Electrical Engineering Laboratory, National Institute of Standards and Technology, 100 Bureau Drive, Stop 8100, Gaithersburg, MD 20899-8100, Tel: (301) 975-2220, Fax: (301) 975-4091.

For the MEL Grants Program, program questions should be addressed to Mrs. Mary Lou Norris, Manufacturing Engineering Laboratory, National Institute of Standards and Technology, 100 Bureau Drive, Stop 8200, Gaithersburg, MD 20899-8200, Tel: (301) 975-3400, e-mail: mnorris@nist.gov.

For the CSTL Grants Program, program questions should be addressed to Dr. William F. Koch, Chemical Science and Technology Laboratory, National Institute of Standards and Technology, 100 Bureau Drive, Stop 8300, Gaithersburg, MD 20899-8300, Tel (301) 975-8301, e-mail: william.koch@nist.gov.

For the PL Grants Program, program questions should be addressed to Ms. Anita Sweigert, Physics Laboratory, National Institute of Standards and Technology, 100 Bureau Drive, Stop 8400, Gaithersburg, MD 20899-8400, Tel (301) 975-4200, e-mail: anita.sweigert@nist.gov.

For the MSEL Grants Program, program questions should be addressed to Dr. Stephen W. Freiman, Materials Science and Engineering Laboratory, National Institute of Standards and Technology, 100 Bureau Drive, Stop 8500, Gaithersburg, MD 20899-8500, Tel: (301) 975-5658, e-mail: stephen.freiman@nist.gov.

For the Building Research Grants and Cooperative Agreements Program, program questions should be addressed to Karen Perry, Building and Fire Research Laboratory, National Institute of Standards and Technology, 100 Bureau Drive, Stop 8602, Gaithersburg, MD 20899-8602, Tel.: (301) 975-5910, Fax: (301) 975-4032.

For the Fire Research Grants Program, program questions should be addressed to Ms. Wanda Duffin-Ricks, National Institute of Standards and Technology, 100 Bureau Drive, Stop 8660, Gaithersburg, MD 20899-8660, Tel: (301) 975-6863, e-mail: wanda.duffin@nist.gov.

SUPPLEMENTARY INFORMATION: The National Institute of Standards and Technology (NIST) recently published notices in the Federal Register announcing the availability of funds for Small Grants Programs (January 5, 2005), the Summer Undergraduate Research Fellowships (SURF) Programs (December 27, 2004), and for the Precision Measurement Grants Program (December 27, 2004). This document amends each of these announcements by updating the citation to the Department of Commerce Pre-Award Notification Requirements for Grants and Cooperative Agreements printed in the Supplementary Information section of each notice. The Department of Commerce Pre-Award Notification Requirements for Grants and Cooperative Agreements contained in the Federal Register notice of December 30, 2004 (69 FR 78389) is applicable to the three notices mentioned above. On the form SF-424, the applicant's 9-digit Dun and Bradstreet Data Universal Numbering System (DUNS) number must be entered in the Applicant Identifier block.

Classification

It has been determined that this rule is not significant for purposes of E.O. 12866.

Prior notice and an opportunity for public comment are not required by the Administrative Procedure Act for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and has not been prepared.

Dated: February 3, 2005.
Hratch G. Semerjian,
Acting Director.

[FR Doc. 05-2412 Filed 2-7-05; 8:45 am]

BILLING CODE 3510-13-P